DEPARTMENT OF AGRICULTURE

Food and Nutrition Service

Agency Information Collection Activities: Proposed Collection; Comment Request—Form FNS-380-1, Food Stamp Program Quality Control Review Schedule

AGENCY: Food and Nutrition Service, USDA.

ACTION: Notice.

SUMMARY: As required by the Paperwork Reduction Act of 1995, this notice invites the general public and other public agencies to comment on proposed information collection of Form FNS-380-1, Food Stamp Program Quality Control Review Schedule. The proposed collection is an extension of collection currently approved under OMB No. 0584-0299.

DATES: Written comments must be submitted on or before May 12, 2003.

ADDRESSES: Send comments and requests for copies of this information collection to Dan Wilusz, Branch Chief, Quality Control Branch, Room 822, Program and Accountability Division, Food and Nutrition Service, U. S. Department of Agriculture, 3101 Park Center Drive, Alexandria, Virginia 22302. You may FAX comments to us at (703) 305-0928. You may also download an electronic version of this notice at http://www.fns.usda.gov/fsp/rules/Regulations/default.htm and comment via the Internet at the same address.

Comments are invited on (a) Whether the proposed collection of information is necessary for the proper performance of the function of the agency, including whether the information will have practical utility; (b) the accuracy of the agency's estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology.

All responses to this notice will be included in the request for OMB's approval. All comments will also become a matter of public record.

FOR FURTHER INFORMATION CONTACT: Requests for additional information or copies of the information collection form and instruction should be directed to Dan Wilusz at (703) 305-2474.

SUPPLEMENTARY INFORMATION: Title: Quality Control Review Schedule, Form FNS-380-1.

OMB Number: 0584-0299.

Expiration Date: October 30, 2003.

Type of Request: Revision of a currently approved collection.

Abstract: The Form FNS-380-1, Food Stamp Program Quality Control Review Schedule, collects quality control (QC) and household characteristics data. The information needed to complete this form is obtained from the Food Stamp case record and State quality control findings. The information is used to monitor and reduce errors, develop policy strategies, and analyze household characteristic data.

Affected Public: Individuals or households and State or local governments.

Estimated Number of Respondents: 53 State agencies.

Estimated Total Number of Responses Per Year: 54,703.

Estimated Hours Per Response: 1.05.

Total Annual Reporting Burden: 57,438.

Estimated Number of Annual Records to Keep: 54,703.

Estimated Hours Per Record: 0.0236.

Total Annual Record Keeping Burden: 1,291.

Total Annual Reporting and Record Keeping Burden: 58,729.

Dated: March 4, 2003.
Roberto Salazar,
Administrator, Food and Nutrition Service.

[FR Doc. 03-5654 Filed 3-10-03; 8:45 am]

BILLING CODE 3410-30-P